ENVIRONMENTAL PROTECTION AGENCY

[FRL-8202-3]

Notice of Open Meeting of the Environmental Financial Advisory Board (EFAB)

AGENCY: Environmental Protection Agency (EPA).

ACTION: Notice.

SUMMARY: The United States Environmental Protection Agency's (EPA) Environmental Financial Advisory Board (EFAB) will hold an open board meeting. EFAB is an EPA advisory committee chartered under the Federal Advisory Committee Act (FACA) to provide advice and recommendations to EPA on creative approaches to funding environmental programs, projects, and activities.

A meeting of the full board will be held to discuss progress with work products under EFAB's current strategic action agenda and develop an action agenda to direct the Board's ongoing and new activities through FY 2007. Topics of discussion include financial assurance mechanisms; innovative environmental financing tools; non-point source (watershed) financing; useful life financing of water facilities; water infrastructure financing; and smartway transportation partnerships. The meeting is open to the public; however, seating is limited. All members of the public who wish to attend the meeting must register in advance, no later than Friday, August 4, 2006.

DATES: August 14, 2006 from 1 p.m.-5 p.m. and August 15, 2006 from 8:30 a.m.-5 p.m.

ADDRESSES: Hotel Nikko San Francisco, 222 Mason Street, San Francisco, CA 94102.

FOR FURTHER INFORMATION CONTACT: For information on access or services for individuals with disabilities, please contact Alecia Crichlow at (202) 564-5188 or crichlow.alecia@epa.gov. To request accommodations of a disability, please contact Alecia Crichlow at least ten days prior to the meeting date.

Dated: July 12, 2006.
Joseph Dillon,
Director, Office of Enterprise Technology and Innovation.

[FR Doc. E6-11601 Filed 7-20-06; 8:45 am]

BILLING CODE 6560-50-P